DEPARTMENT OF ENERGY

Federal Energy Regulatory Commission

Supplemental Notice of Staff Technical Conference

November 29, 2006.

Midwest Independent Transmission System Operator, Inc. | Docket No. ER05-6-044. Docket No. ER05-6-054. Docket No. ER05-6-055.
Midwest Independent Transmission System Operator, Inc. and PJM Interconnection, L.L.C. | Docket No. EL04-135-046. Docket No. EL04-135-056. Docket No. EL04-135-057.
Midwest Independent Transmission System Operator, Inc. and PJM Interconnection, L.L.C. | Docket No. EL02-111-064. Docket No. EL02-111-074. Docket No. EL02-111-075.
Ameren Services Company | Docket No. EL03-212-060. Docket No. EL03-212-070. Docket No. EL03-212-071.
Midwest Independent Transmission System Operator, Inc. | Docket No. ER06-18-000. Docket No. ER06-18-001. Docket No. ER06-18-002. Docket No. ER06-18-003. Docket No. ER06-18-004. Docket No. ER06-18-005.
PJM Interconnection, LLC | Docket No. ER06-954-000. Docket No. ER06-456-000. Docket No. ER06-1271-000.

As announced in the Notice of Technical Conference issued on October 13, 2006, the Commission staff will convene a technical conference on Tuesday, December 5, 2006, at 9 a.m. at the Federal Energy Regulatory Commission, 888 First Street NE., Washington, DC 20426. The room location of the technical conference has been changed to Hearing Room 1.

Also, additional docket numbers have been included in the caption above because issues in these proceedings may be related to issues arising during the course of discussions in the technical conference.

Magalie R. Salas,
Secretary.

[FR Doc. E6-20596 Filed 12-5-06; 8:45 am]

BILLING CODE 6717-01-P